FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice.

Neither agency intends to take any action with respect to these proposed acquisitions during the applicable waiting period.

Early Terminations Granted
[May 1, 2017 through May 31, 2017]
05/01/2017
20170992 | G | Microsoft Corporation; Charles Simonyi; Microsoft Corporation.
20171048 | G | Vector Capital IV International, L.P.; Experian plc; Vector Capital IV International, L.P.
20171053 | G | Gulfport Energy Corporation; Mammoth Energy Holdings LLC; Gulfport Energy Corporation.
20171054 | G | Green Equity Investors Side VII, L.P.; Letterone Investment Holdings S.A.; Green Equity Investors Side VII, L.P.
20171055 | G | NuStar Energy L.P.; First Reserve Energy Infrastructure Fund II, L.P.; NuStar Energy L.P.
20171057 | G | Apax IX USD L.P.; Syneron Medical Ltd.; Apax IX USD L.P.
20171067 | G | Loews Corporation; Bain Capital Fund X, L.P.; Loews Corporation.
20171068 | Y | Mubadala Investment Company PJSC; The Williams Companies Inc.; Mubadala Investment Company PJSC.
20171070 | G | Wind Point Partners, VIII-A, L.P.; Valicor, Inc.; Wind Point Partners, VIII-A, L.P.
20171073 | G | Permira VI L.P. 1; The Resolute Fund III, L.P.; Permira VI L.P. 1.
20171075 | G | Swift Transportation Company; Knight Transportation, Inc.; Swift Transportation Company.
20171076 | G | Clayton Dubilier & Rice Fund IX, L.P.; Onex Partners II LP; Clayton Dubilier & Rice Fund IX, L.P.
20171082 | G | Ronald O. Perelman; RetailMeNot, Inc.; Ronald O. Perelman.
20171083 | G | Capital Power Corporation; LS Power Equity Partners III, L.P.; Capital Power Corporation.
05/02/2017
20171025 | G | JANA Nirvana Offshore Fund, Ltd.; Whole Foods Market, Inc.; JANA Nirvana Offshore Fund, Ltd.
20171026 | G | JANA Master Fund, Ltd.; Whole Foods Market, Inc.; JANA Master Fund, Ltd.
20171063 | G | Carlyle Power Partners II, L.P.; Rockland Power Partners II, LP; Carlyle Power Partners II, L.P.
05/03/2017
20170923 | G | Leonardo S.p.A.; Daylight Solutions, Inc.; Leonardo S.p.A.
20171024 | G | Extreme Networks, Inc.; Broadcom Limited; Extreme Networks, Inc.
05/04/2017
20170405 | G | Boral Limited; Headwaters Incorporated; Boral Limited.
20171027 | G | MGM Holdings, Inc.; Studio 3 Partners LLC; MGM Holdings, Inc.
20171051 | G | Cowen Group, Inc.; ConvergEx Holdings, LLC; Cowen Group, Inc.
20171071 | G | Dell Technologies; Wavefront, Inc.; Dell Technologies.
20171093 | G | Beecken Petty O'Keefe Fund IV, L.P.; Cortec Group Fund IV, L.P.; Beecken Petty O'Keefe Fund IV, L.P.
20171097 | Y | Zheng Yuewen; Dr. Cathrin Schleussner; Zheng Yuewen.
20171098 | G | Oracle Corporation; Jonah Goodhart; Oracle Corporation.
05/05/2017
20171030 | G | BioTelemetry, Inc.; LifeWatch AG; BioTelemetry, Inc.
05/08/2017
20171000 | G | Thomas Jefferson University; Philadelphia University; Thomas Jefferson University.
20171086 | G | AT&T Inc.; Softbank Group Corp.; AT&T Inc.
20171087 | G | Softbank Group Corp.; AT&T Inc.; Softbank Group Corp.
20171092 | G | Platinum Equity Capital Partners IV, L.P.; ATS Consolidated, Inc.; Platinum Equity Capital Partners IV, L.P.
20171094 | Y | Shanghai Shenda Co., Ltd.; International Automotive Components Group North America, LLC; Shanghai Shenda Co., Ltd.
20171101 | G | Insignia Capital Partners, L.P.; Tillamook Country Smoker, Inc.; Insignia Capital Partners, L.P.
20171107 | G | Orion US Holdings 1 L.P.; SunEdison, Inc.; Orion US Holdings 1 L.P.
20171108 | G | Blackstone Energy Partners II Q L.P.; EnCap Flatrock Midstream Fund II, L.P.; Blackstone Energy Partners II Q L.P.
20171109 | G | Harmony Merger Corp.; NextDecade, LLC; Harmony Merger Corp.
20171114 | G | Olympus Growth Fund VI, L.P.; Wind Point Partners, VII-A, L.P.; Olympus Growth Fund VI, L.P.
20171115 | G | Sawai Pharmaceutical Co., Ltd.; Ken & Grace Evanstad; Sawai Pharmaceutical Co., Ltd.
20171117 | G | Golden Gate Capital Opportunity Fund, L.P.; Vector Capital IV International, L.P.; Golden Gate Capital Opportunity Fund, L.P.
20171120 | G | Proximus PLC; TeleSign Holdings, Inc.; Proximus PLC.
20171129 | G | Eagle Buyer, Inc.; Eagle Holding Company I; Eagle Buyer, Inc.
20171131 | G | Global Atlantic Financial Group Limited; John D. Arnold; Global Atlantic Financial Group Limited.
20171133 | G | Ashland Global Holdings Inc.; Mrs. Catherine Holmes; Ashland Global Holdings Inc.
20171136 | G | MVC Capital, Inc.; MVC Capital, Inc.; MVC Capital, Inc.
20171137 | G | MVC Capital, Inc.; Equus Total Return, Inc.; MVC Capital, Inc.
05/09/2017
20171112 | G | CK Williams UK Holdings Limited; DUET Company Limited; CK Williams UK Holdings Limited.
20171135 | G | KMG Chemicals, Inc.; Arsenal Capital Partners III LP; KMG Chemicals, Inc.
05/11/2017
20171138 | G | SNC-Lavalin Group Inc.; WS Atkins plc; SNC-Lavalin Group Inc.
05/12/2017
20171105 | Y | Argos Holdings L.P.; Chewy, Inc.; Argos Holdings L.P.
05/15/2017
20171085 | G | Vista Equity Partners Fund VI, L.P.; Aurora Equity Partners IV, L.P.; Vista Equity Partners Fund VI, L.P.
20171118 | G | HeidelbergCement AG; CEMEX S.A.B. de C.V.; HeidelbergCement AG.
20171121 | G | Nikkiso Co., Ltd.; Ross M. Brown; Nikkiso Co., Ltd.
05/16/2017
20171139 | G | Gridiron Capital Fund III, L.P.; Audax Private Equity Fund IV, L.P.; Gridiron Capital Fund III, L.P.
20171144 | G | Insight Venture Partners VII, L.P.; Smartsheet Inc.; Insight Venture Partners VII, L.P.
20171148 | G | Dubai Aerospace Enterprise (DAE) Ltd.; Carmel Capital S.A.R.L.; Dubai Aerospace Enterprise (DAE) Ltd.
20171152 | G | Marlin Equity IV, L.P.; Tangoe, Inc.; Marlin Equity IV, L.P.
20171153 | G | Peugeot S.A.; General Motors Company; Peugeot S.A.
20171155 | G | Salaheddin Fawzi Hasan; John T. Rogers & Twanna M. Rogers (husband and wife); Salaheddin Fawzi Hasan.
20171156 | G | Jeffery D. Hildebrand; ConocoPhilips; Jeffery D. Hildebrand.
20171160 | G | Richard D. Kinder; Kinder Morgan, Inc.; Richard D. Kinder.
20171165 | G | SK Capital Partners IV-A, L.P.; D.B. Western, Inc.—Texas; SK Capital Partners IV-A, L.P.
20171168 | G | Elliott International Limited; Roadrunner Transportation Systems, Inc.; Elliott International Limited.
20171169 | G | Elliott Associates, L.P.; Roadrunner Transportation Systems, Inc.; Elliott Associates, L.P.
20171180 | G | Mr. Len Blavatnik; Essential Products, Inc.; Mr. Len Blavatnik.
20171184 | G | TPG Growth III (A), L.P.; Medical Solutions Equity, LLC; TPG Growth III (A), L.P.
05/17/2017
20170048 | G | Ritchie Bros. Auctioneers Incorporated; IronPlanet Holdings, Inc.; Ritchie Bros. Auctioneers Incorporated.
20171143 | G | Cardinal Health, Inc.; Medtronic plc; Cardinal Health, Inc.
20171157 | G | Michael J. Angelakis; Virtusa Corporation; Michael J. Angelakis.
05/18/2017
20171062 | G | Supervalu Inc.; Unified Grocers, Inc.; Supervalu Inc.
20171104 | G | Alpine Aggregator LLC; Ascend Learning Holdings, LLC; Alpine Aggregator LLC.
20171134 | G | Standard Life plc; Aberdeen Asset Management PLC; Standard Life plc.
05/19/2017
20171126 | G | Macquarie Group Limited; Cargill, Incorporated; Macquarie Group Limited.
20171140 | G | Francisco Partners IV, L.P.; AQA Acquisition Holding, Inc.; Francisco Partners IV, L.P.
20171174 | G | The Veritas Capital Fund V, L.P.; SWN Communications Inc.; The Veritas Capital Fund V, L.P.
20171177 | G | Cisco Systems, Inc.; Timothy Tuttle; Cisco Systems, Inc.
20171185 | G | FleetCor Technologies, Inc.; Bernard Heitner; FleetCor Technologies, Inc.
20171186 | G | FleetCor Technologies, Inc.; Jacques Feldman; FleetCor Technologies, Inc.
20171189 | G | Daniel Gilbert; George K. Broady; Daniel Gilbert.
20171194 | G | Belden Inc.; Riverside Fund IV, LP; Belden Inc.
20171197 | G | AIPCF VI Cayman AIV Fund, LP; Canam Group, Inc.; AIPCF VI Cayman AIV Fund, LP.
20171200 | G | Dr. Robert J. Hariri; Human Longevity, Inc.; Dr. Robert J. Hariri.
20171202 | G | PSP Investments Holding Europe Ltd.; PSPLUX S.a.r.l; PSP Investments Holding Europe Ltd.
20171211 | G | Hitachi Ltd.; Silver II GP Holdings S.C.A.; Hitachi Ltd.
05/22/2017
20171149 | G | Jorge Paulo Lemann; Richard A. Guthy & Denise A. Guthy; Jorge Paulo Lemann.
20171150 | G | Eugenie Patri Sebastien EPS, SA; Richard A. Guthy & Denise A. Guthy; Eugenie Patri Sebastien EPS, SA.
20171198 | G | New Mountain Partners V (AIV-A), L.P.; Fidelity National Financial, Inc.; New Mountain Partners V (AIV-A), L.P.
05/23/2017
20171161 | G | Legrand S.A.; Finelite, Inc.; Legrand S.A.
20171176 | G | WestRock Company; Dennis Mehiel; WestRock Company.
20171193 | G | Nautic Partners VIII, L.P.; Wolseley plc; Nautic Partners VIII, L.P.
20171220 | G | TC Pipelines, LP; Portland Natural Gas Transmission System; TC Pipelines, LP.
05/24/2017
20171077 | G | Deutsche Telekom AG; AT&T Inc.; Deutsche Telekom AG.
20171078 | G | AT&T Inc.; Deutsche Telekom AG; AT&T Inc.
20171154 | G | Neuberger Berman Alternative Funds; Whole Foods Market, Inc.; Neuberger Berman Alternative Funds.
20171209 | G | Federal Signal Corporation; GenNx 360 Capital Partners II, L.P.; Federal Signal Corporation.
20171214 | G | Lion Capital (Guernsey) Bridgeco Limited; Lenny & Larry's, LLC; Lion Capital (Guernsey) Bridgeco Limited.
05/25/2017
20171130 | G | Uniti Group Inc.; SLF Holdings, LLC; Uniti Group Inc.
20171225 | G | The Coca-Cola Company; Arca Continental, S.A.B. de C.V.; The Coca-Cola Company.
05/26/2017
20160979 | G | The Sherwin-Williams Company; The Valspar Corporation; The Sherwin-Williams Company.
05/30/2017
20171119 | G | Vincent Viola; KCG Holdings, Inc.; Vincent Viola.
20171210 | G | North Haven Infrastructure Partners II AIV-I L.P.; Carlyle Infrastructure Partners Power III, LP; North Haven Infrastructure Partners II AIV-I L.P.
20171216 | G | Jeffrey Broin; Missouri Ethanol, L.L.C.; Jeffrey Broin.
20171219 | G | Cummins Inc.; Eaton Corporation plc; Cummins Inc.
20171221 | G | Jeffrey Broin; Prairie Ethanol, LLC; Jeffrey Broin.
20171222 | G | Q-HG Energy II Investment Partners, LLC; Noble Energy, Inc.; Q-HG Energy II Investment Partners, LLC.
20171223 | G | Owens & Minor, Inc.; AI Garden (Cayman) Limited; Owens & Minor, Inc.
20171228 | G | Jeffrey Broin; POET Grain, LLC; Jeffrey Broin.
20171229 | G | Calera Capital Partners V, L.P.; Adam M. Arnott; Calera Capital Partners V, L.P.
20171230 | G | Thoma Bravo Discover Fund, L.P.; Continuum Managed Services, LLC; Thoma Bravo Discover Fund, L.P.
20171234 | G | Desmarais Family Residuary Trust; Lumenpulse Inc.; Desmarais Family Residuary Trust.
20171236 | G | Temasek Holdings (Private) Limited; Thoma Bravo Fund X, L.P.; Temasek Holdings (Private) Limited.
20171242 | G | Pembina Pipeline Corporation; Veresen Inc.; Pembina Pipeline Corporation.
20171244 | G | CP VI Eagle, L.P.; WildHorse Resource Development Corporation; CP VI Eagle, L.P.
20171248 | G | Enbridge Inc.; Enbridge Energy Partners, L.P.; Enbridge Inc.
20171255 | G | Reliance Worldwide Corporation Limited; Michelle M. Hubbard; Reliance Worldwide Corporation Limited.
20171256 | G | Owens Corning; PCC APIS Trust; Owens Corning.
20171257 | G | Orbiter Holdings Jersey Limited; Theodore Schneider; Orbiter Holdings Jersey Limited.
20171261 | G | GTCR Fund XI-A LP; VEPF IV AIV IX, L.P.; GTCR Fund XI-A LP.
20171264 | G | Silver Lake Partners IV, L.P.; Unity Software Inc.; Silver Lake Partners IV, L.P.
20171265 | G | Vitol Holding B.V.; VTTI Energy Partners LP; Vitol Holding B.V.
20171266 | G | Buckeye Partners, L.P.; VTTI Energy Partners LP; Buckeye Partners, L.P.
05/31/2017
20170964 | G | Clayton, Dubilier & Rice Fund IX, L.P.; OIP Safway AIV, L.P.; Clayton, Dubilier & Rice Fund IX, L.P.
20171145 | G | KKR & Co. L.P.; James M. Seneff, Jr.; KKR & Co. L.P.
20171243 | G | Trident FFP L.P.; Focus Financial Partners, LLC; Trident FFP L.P.

For Further Information Contact: Theresa Kingsberry, Program Support Specialist, Federal Trade Commission Premerger Notification Office, Bureau of Competition, Room CC-5301, Washington, DC 20024, (202) 326-3100.

By direction of the Commission.
Donald S. Clark,
Secretary.

[FR Doc. 2017-12717 Filed 6-16-17; 8:45 am]

BILLING CODE 6750-01-P